DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of October 15, 2012 through October 19, 2012.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
81,717 | Sanmina-SCI, MSD Division, Manpower | Turtle Lake, WI | June 7, 2011.

The following certifications have been issued. The requirements of Section 222(a)(2)(B) (shift in production or services) of the Trade Act have been met.

TA-W No. | Subject firm | Location | Impact date
81,918 | Avnet, Inc., Logistics Div., Collectron and Sonitronies, Remote Workers in Nogales, AZ | Richardson, TX | August 23, 2011.
81,921 | Schneider Electric, Global Supply Chain, NA, leased workers from Volt Workforce Solutions | Cedar Rapids, IA | August 24, 2011.
81,961 | American Express Travel Related Services Company, Inc., World Service Global New Accounts, Kelly Services | Salt Lake City, UT | September 6, 2011.
81,966 | AT&T Services, Inc., Information Technology Operations, Global Systems Hosting, etc | Bothell, WA | August 5, 2012.
81,966A | Leased Workers from Collabera, Inc., Data Domain LLC, Data Vista, Inc., Decision One, EMC Corporation, Etech, Evergreen Power Systems, etc | Bothell, WA | September 12, 2011.
81,973 | Sun Life Financial (U.S.) Services Company, Inc., Sun Life Financial, Inc., Adecco | Greenfield, MA | September 17, 2011.
81,987 | Cincinnati Bell Telephone Company, LLC, Cincinnati Bell, Inc., Call Center Operations Division | Norwood, OH | September 19, 2011.
81,987A | Cincinnati Bell Telephone Company, LLC, Cincinnati Bell, Inc., Call Center Operations Division | Lebanon, OH | September 19, 2011.
81,992 | Cox Media Group Ohio, Inc., Graphic Design Group, Cox Enterprises, Inc | Dayton, OH | September 20, 2011.
81,994 | Ahlstrom West Carrollton LLC | West Carrollton, OH | September 20, 2011.
82,002 | E! Entertainment Television, LLC, G4 Media, NBC Universal, Cable Networks, Randstad Sourceright, etc. | Los Angeles, CA | September 24, 2011.
82,006 | Tellabs Inc., Supply Chain Test Engineering Division | Naperville, IL | September 25, 2011.
82,007 | Maysteel LLC, a subsidiary of Everett Smith Group LTD, leased from Randstad Engineering, Aerotek Commercial Staffing | Creedmoor, NC | September 25, 2011.
82,007A | Maysteel LLC, a subsidiary of Everett LTD | Allenton, WI | September 25, 2011.
82,008 | BRP US, Inc., Sport Boat Division, Select Remedy | Benton, IL | September 25, 2011.
82,009 | ITT Cannon, LLC, a subsidiary of ITT Corporation, on-site leased Innovative, First Choice, Prosearch, First, Peopleware, etc | Santa Ana, CA | September 25, 2011.
82,012 | Oxford Collections, Customer Service Department, LF USA | Gaffney, SC | March 13, 2012.
82,039 | Wellpoint, Inc., Wellpoint Companies, West Host Claims & Adjustment, Kelly Services, Aerotek | Denver, CO | October 2, 2011.
82,046 | Wire Company Holdings, Inc. DBA New York Wire, Wire Mesh Holdings, Inc., Manpower | Hanover, PA | October 2, 2011.
82,046A | Wire Company Holdings, Inc. DBA New York Wire, E. Market Street Facility, Wire Mesh Holdings, Manpower and Temp Star | York, PA | October 2, 2011.
82,046B | Wire Company Holdings, Inc. DBA New York Wire, Loucks Mill Road, Wire Mesh Holdings, Temp Star Staffing | York, PA | October 2, 2011.
82,048 | Hartford Financial Services Group, Inc., Operations/Wealth Management/Document Control Services | Windsor, CT | October 3, 2011.
82,049 | Hartford Financial Services Group, Inc., Corporate/Finance/Controllers/Accounting Operations | Simsbury, CT | October 3, 2011.
82,049A | Hartford Financial Services Group, Inc., Corporate/Finance/Controllers/Accounting Operations | Hartford, CT | October 3, 2011.
82,050 | Hartford Financial Services Group, Inc., IT/Project Management | Simsbury, CT | October 3, 2011.
82,050A | Hartford Financial Services Group, Inc., IT/Project Management | Hartford, CT | October 3, 2011.
82,050B | Hartford Financial Services Group, Inc., IT/Project Management | Windsor, CT | October 3, 2011.
82,051 | Hartford Financial Services Group, Inc., Operations/Commercial/Premium Audit/Reviewers | San Antonio, TX | October 3, 2011.
82,051A | Hartford Financial Services Group, Inc., Operations/Commercial/Premium Audit/Reviewers | Clinton, NY | October 3, 2011.
82,055 | Hartford Financial Services Group, Inc., Operations/Commercial Markets/Group Benefits/STAT BRC | Windsor, CT | October 4, 2011.
82,056 | Hartford Financial Services Group, Inc., Operations/Commercial Markets/Group Benefits/STAT BRC | Overland Park, KS | October 4, 2011.

The following certifications have been issued. The requirements of Section 222(c) (supplier to a firm whose workers are certified eligible to apply for TAA) of the Trade Act have been met.

TA-W No. | Subject firm | Location | Impact date
81,859 | PBS Coals, Inc., David Stanley Consultants and Strata Mine Services, UI Wages through Roxcoal | Friedens, PA | August 6, 2011.

Negative Determinations for Worker Adjustment Assistance

In the following cases, the investigation revealed that the eligibility criteria for worker adjustment assistance have not been met for the reasons specified.

The investigation revealed that the criteria under paragraphs (a)(2)(A)(i) (decline in sales or production, or both) and (a)(2)(B) (shift in production or services to a foreign country) of section 222 have not been met.

TA-W No. | Subject firm | Location | Impact date
81,929 | Joy Global, Inc., Joy Technologies, All Seasons Temporaries and Manpower | Franklin, PA

The investigation revealed that the criteria under paragraphs(a)(2)(A) (increased imports) and (a)(2)(B) (shift in production or services to a foreign country) of section 222 have not been met.

TA-W No. | Subject firm | Location | Impact date
81,744 | Kyowa America Corporation, Pennsylvania Division, Kyowa Electric & Chemical Japan, Spherion Staffing | Waynesburg, PA
81,804 | Earthgrains Baking Companies, Inc., Earthgrains Baking Group, dba Bimbo Bakeries, USA, Randstand | Knoxville, TN
81,964 | Hewlett Packard Company, Switchboard Division | Plano, TX
82,022 | RG Steel | Allenport, PA

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W number | Subject firm | Location | Impact date
81,934 | Zenda Leather | Connelly Springs, NC
82,042 | Covidien | Seneca, SC

The following determinations terminating investigations were issued because the petitioning groups of workers are covered by active certifications. Consequently, further investigation in these cases would serve no purpose since the petitioning group of workers cannot be covered by more than one certification at a time.

TA-W No. | Subject firm | Location | Impact date
81,998 | APC Workforce Solutions II, LLC, dba Zerochaos, State Street Corporation | Quincy, MA
82,054 | Hartford Financial Services Group, Inc., IT/Project Management | Windsor, CT

The following determinations terminating investigations were issued because the petitions are the subject of ongoing investigations under petitions filed earlier covering the same petitioners.

TA-W No. | Subject firm | Location | Impact date
82,017 | PotashCorp-Aurora | Aurora, NC

I hereby certify that the aforementioned determinations were issued during the period of October 15, 2012 through October 19, 2012. These determinations are available on the Department's Web site tradeact/taa/taa search firm.cfm under the searchable listing of determinations or by calling the Office of Trade Adjustment Assistance toll free at 888-365-6822.

Dated: October 31, 2012.
Elliott S. Kushner,
Certifying Officer, Office of Trade Adjustment Assistance.

[FR Doc. 2012-27418 Filed 11-8-12; 8:45 am]

BILLING CODE 4510-FN-P